DEPARTMENT OF COMMERCE

National Oceanic and Atmospheric Administration

RIN: 0648-XP78

Pacific Fishery Management Council; Public Meeting/Workshop

AGENCY: National Marine Fisheries Service (NMFS), National Oceanic and Atmospheric Administration (NOAA), Commerce.

ACTION: Notice of three public meetings.

SUMMARY: Three Groundfish Stock Assessment Review (STAR) Panel meetings will be held to review new assessments for groundfish species. The first STAR Panel meeting will review new assessments for bocaccio and widow rockfish. The second STAR Panel meeting will review new assessments for lingcod and cabezon. The third STAR Panel meeting will review new assessments for yelloweye and greenstriped rockfish. All three STAR Panel meetings are work sessions which are open to the public.

DATES: The bocaccio and widow rockfish STAR Panel meeting will be held beginning at 8:30 a.m., Monday, July 13, 2009. The meeting will continue on Tuesday, July 14, 2009 beginning at 8:30 a.m. through Friday, July 17, 2009. The meeting will end at 5:30 p.m. each day, or as necessary to complete business.

The lingcod and cabezon STAR Panel meeting will be held beginning at 8:30 a.m., Monday, July 27, 2009. The meeting will continue on Tuesday, July 28, 2009 beginning at 8:30 a.m. through Friday, July 31, 2009. The meeting will end at 5:30 p.m. each day, or as necessary to complete business.

The yelloweye and greenstriped rockfish STAR Panel meeting will be held beginning at 8:30 a.m., Monday, August 3, 2009. The meeting will continue on Tuesday, August 4, 2009 beginning at 8:30 a.m. through Friday, August 7, 2009. The meeting will end at 5:30 p.m. each day, or as necessary to complete business.

ADDRESSES: The bocaccio and widow rockfish STAR Panel meeting will be held at the NMFS Southwest Fisheries Science Center, Meeting Room 188, 110 Shaffer Road, Santa Cruz, CA 95060; telephone: (831) 420-3900.

The lingcod and cabezon STAR Panel meeting, as well as the yelloweye and greenstriped rockfish STAR Panel meeting, will be held at the Hotel Deca, 4507 Brooklyn Avenue N.E., Seattle WA 98105; telephone: 1-800-899-0251.

Council address: Pacific Fishery Management Council, 7700 NE Ambassador Place, Suite 101, Portland, OR 97220-1384.

FOR FURTHER INFORMATION CONTACT: Ms. Stacey Miller, Northwest Fisheries Science Center (NWFSC); telephone: (206) 437-5670; or Mr. John DeVore, Pacific Fishery Management Council; telephone: (503) 820-2280.

SUPPLEMENTARY INFORMATION: The purpose of the three STAR Panel meetings is to review draft stock assessment documents for these species and any other pertinent information, work with the Stock Assessment Teams to make necessary revisions, and produce STAR Panel reports for use by the Council family and other interested persons. No management actions will be decided by these STAR Panels. The STAR Panels' role will be development of recommendations and reports for consideration by the Council at its September meeting in Foster City, CA.

Although non-emergency issues not contained in the meeting agendas may come before the STAR Panel participants for discussion, those issues may not be the subject of formal STAR Panel action during these meetings. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

These meetings are physically accessible to people with disabilities. Requests for sign language interpretation or other auxiliary aids should be directed to Ms. Carolyn Porter at (503) 820-2280 at least 5 days prior to the meeting date.

Dated: June 9, 2009.
Tracey L. Thompson,
Acting Director, Office of Sustainable Fisheries, National Marine Fisheries Service.

[FR Doc. E9-13839 Filed 6-11-09; 8:45 am]

BILLING CODE S